DEPARTMENT OF THE INTERIOR

National Park Service

[NPS-WASO-NRNHL-DTS#-39135; PPWOCRADI0, PCU00RP14.R50000]

National Register of Historic Places; Notification of Pending Nominations and Related Actions

AGENCY: National Park Service, Interior.

ACTION: Notice.

SUMMARY: The National Park Service is soliciting electronic comments on the significance of properties nominated before November 16, 2024, for listing or related actions in the National Register of Historic Places.

DATES: Comments should be submitted electronically by December 16, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before November 16, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so. Nominations submitted by State or Tribal Historic Preservation Officers.

Key: State, County, Property Name, Multiple Name (if applicable), Address/Boundary, City, Vicinity, Reference Number.

GEORGIA

Chatham County

Kiah Museum, 505 West 36th Street, Savannah, SG100011194.

ILLINOIS

Cook County

Edgewater Glen Historic District, Roughly bounded by W. Hood Ave. on the north, W. Norwood St. on the south, Broadway the east, and Clark St. on the west. Chicago, SG100011201.

The Hunt Club, 6615 Roosevelt Road, Berwyn, SG100011202.

Kane County

International Corset Company Building, 325 South Union Street, Aurora, SG100011203.

TENNESSEE

Cumberland County

“See Rock City” Barn, (“See Rock City” Signs in Tennessee MPS), 5700 TN-68, Crossville vicinity, MP100011196.

A request for removal has been made for the following resource(s):

WISCONSIN

Brown County

Nicolet High School, 111 3rd St., De Pere, OT15000703.

Milwaukee County

Milwaukee Fire Department High Pressure Pumping Station, 2011 S. 1st St., Milwaukee, OT81000049.

Winnebago County

Brin Building, 1 Main St., Menasha, OT86001541.

Additional documentation has been received for the following resource(s):

ARIZONA

Pima County

Broadmoor Historic District (Additional Documentation II), Residential subdivision south of Broadway Blvd. between Tucson Blvd. and Country Club Rd. Tucson, AD100006151.

Authority: Section 60.13 of 36 CFR part 60.

Sherry A. Frear,
Chief, National Register of Historic Places/National Historic Landmarks Program.

[FR Doc. 2024-28027 Filed 11-27-24; 8:45 am]

BILLING CODE 4312-52-P